DEPARTMENT OF TRANSPORTATION

Federal Aviation Administration

14 CFR Part 39

[Docket No. 2000-SW-07-AD]

Airworthiness Directives; Agusta S.p.A. (Agusta) Model A109E Helicopters

AGENCY: Federal Aviation Administration, DOT.

ACTION: Notice of proposed rulemaking (NPRM).

SUMMARY: This document proposes the supersedure of an existing airworthiness directive (AD), applicable to Agusta Model A109E helicopters, that currently requires inspections of the exhaust ejector locking system, clamp, and dampers for each engine. The existing AD also requires verifying the torque of the metallic clamps and installing safety wire on the metallic clamps; inspecting and modifying the ejector saddles and the locking metallic clamps; and inspecting the metallic clamps, locking mechanisms, and dampers. This action would require modifying the engine exhaust ejectors. This proposal is prompted by the development of a kit to modify the engine exhaust ejectors to provide terminating action from the requirements of the current AD. The actions specified by the proposed AD are intended to prevent loss of the metallic clamp or the engine exhaust ejector, damage to the main or tail rotor system and subsequent loss of control of the helicopter.

DATES: Comments must be received on or before November 6, 2000.

ADDRESSES: Submit mailed comments in triplicate to the Federal Aviation Administration (FAA), Office of the Regional Counsel, Southwest Region, Attention: Rules Docket No. 2000-SW-07-AD, 2601 Meacham Blvd., Room 663, Fort Worth, Texas 76137. You may also send comments electronically to the Rules Docket at the following address: 9-asw-adcomments@faa.gov. You may inspect comments at the Office of the Regional Attorney between 9:00 a.m. and 3:00 p.m., Monday through Friday, except Federal holidays.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-07-AD.” The postcard will be date stamped and returned to the commenter.

Availability of NPRMs

You may obtain a copy of this NPRM by submitting a request to the FAA, Office of the Regional Counsel, Southwest Region, Attention: Rules Docket No. 2000-SW-07-AD, 2601 Meacham Blvd., Room 663, Fort Worth, Texas 76137.

Discussion

The Ente Nazionale per L'Aviazione Civile (ENAC), which is the airworthiness authority for Italy, has notified the FAA that an unsafe condition may exist on Agusta Model A109E helicopters. The ENAC advises that modifying the engine exhaust ejectors, part number (P/N) 109-0601-51, is necessary.

On March 10, 1999, the FAA issued AD 99-03-10, Amendment 39-11080 (64 FR 13502, March 19, 1999), to require, before further flight, inspections of the exhaust ejector to ejector saddle locking system, the torque of the metallic clamps, and the dampers at the bottom of the ejector saddle. Installing safety wire on the metallic clamp for each engine is also required. Within the next 10 hours time-in-service (TIS), that AD required inspecting the dampers and metallic clamps, and repositioning and modifying the ejector saddles and the locking metallic clamps. Thereafter, at intervals not to exceed 25 hours TIS, inspecting the metallic clamps, locking mechanisms, and dampers is required. That action was prompted by an inflight incident in which a metallic clamp that secured the left-hand engine exhaust ejector to the ejector saddle became detached and separated from the helicopter. The requirements of that AD are intended to prevent loss of the metallic clamp or the engine exhaust ejector, damage to the main or tail rotor system, and subsequent loss of control of the helicopter.

Since the issuance of that AD, the manufacturer has issued a technical bulletin that specifies installing new saddle assemblies and new damper supports with improved shock characteristics. Additionally, the technical bulletin specifies installing a redesigned ejector saddle locking system using mounting bolts instead of a metallic clamp.

Agusta has issued Agusta Technical Bulletin No. 109EP-5, dated December 22, 1999, which specifies modifying the engine exhaust ejectors, P/N 109-0601-51, by installing a kit, P/N 109-0822-94. The ENAC classified this service bulletin as mandatory and issued AD No. 2000-001, dated January 4, 2000, in order to assure the continued airworthiness of these helicopters in Italy.

This helicopter model is manufactured in Italy and is type certificated for operation in the United States under the provisions of section 21.29 of the Federal Aviation Regulations (14 CFR 21.29) and the applicable bilateral airworthiness agreement. Pursuant to this bilateral airworthiness agreement, ENAC has kept the FAA informed of the situation described above. The FAA has examined the findings of the ENAC, reviewed all available information, and determined that AD action is necessary for products of this type design that are certificated for operation in the United States.

Since an unsafe condition has been identified that is likely to exist or develop on other Agusta Model A109E model helicopters of the same type design, the proposed AD would supersede AD 99-03-10 to require modifying the engine exhaust ejectors, P/N 109-0601-51, by installing a kit, P/N 109-0822-94.

The FAA estimates that 13 helicopters of U.S. registry would be affected by this proposed AD, that it would take approximately 12 work hours per helicopter to accomplish the proposed actions, and that the average labor rate is $60 per work hour. The manufacturer has stated that 12 work hours labor costs at $40 per hour and kit will be provided under warranty if requested prior to December 31, 2000. Based on these figures, the total cost impact of the proposed AD on U.S. operators is estimated to be $3,120, assuming that all operators take full advantage of all the warranty coverage stated by the manufacturer.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11080 (64 FR 13502, March 19, 1999), and by adding a new airworthiness directive (AD), to read as follows:

Agusta S.p.A.: Docket No. 2000-SW-07-AD. Supersedes AD 99-03-10, Amendment 39-11080, Docket No. 99-SW-10-AD.

Applicability: Model A109E helicopters, up to and including serial numbers 11057, excluding serial numbers 11001, 11005, 11047, 11049, 11055 and 11056, with engine exhaust ejectors, part number 109-0601-51, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent loss of the metallic clamp or the engine exhaust ejector, damage to the main or tail rotor system, and subsequent loss of control of the helicopter, accomplish the following:

(a) Prior to further flight, in accordance with Part I of the Compliance Instructions in Agusta Bollettino Tecnico No. 109EP-3, dated December 22, 1998 (Technical Bulletin), inspect the exhaust ejector to ejector saddle locking system, the dampers at the bottom of the ejector saddle, and the torque of the metallic clamp, and install safety wire on the metallic clamp. If any damage is found as a result of the inspection, accomplish Part II of the Compliance Instructions in the Technical Bulletin prior to further flight.

(b) Within the next 10 hours time-in-service (TIS), inspect the dampers and metallic clamps, and reposition and modify the ejector saddle and the locking metallic clamp in accordance with Part II of the Compliance Instructions in the Technical Bulletin.

(c) Thereafter, at intervals not to exceed 25 hours TIS, inspect the metallic clamp, locking mechanism, and dampers in accordance with Part III of the Compliance Instructions in the Technical Bulletin.

(d) Before further flight after December 31, 2000, modify the engine exhaust ejectors, part number (P/N) 109-0601-51, by installing a kit, P/N 109-0822-94, in accordance with the Compliance Instructions in Agusta Technical Bulletin No. 109EP-5, dated December 22, 1999.

(e) Installing a kit, P/N 109-0822-94, is terminating action for the requirements of this AD.

(f) An alternative method of compliance or adjustment of the compliance time that provides an acceptable level of safety may be used if approved by the Manager, Regulations Group, Rotorcraft Directorate, FAA. Operators shall submit their requests through a FAA Principal Maintenance Inspector, who may concur or comment and then send it to the Manager, Regulations Group.

Note 2: Information concerning the existence of approved alternative methods of compliance with this AD, if any, may be obtained from the Regulations Group.

(g) Special flight permits may be issued in accordance with sections 21.197 and 21.199 of the Federal Aviation Regulations (14 CFR 21.197 and 21.199) to operate the helicopter to a location where the requirements of this AD can be accomplished.

Note 3: The subject of this AD is addressed in Ente Nazionale per l'Aviazione Civile (Italy) AD No. 2000-001, dated January 4, 2000, and 2000-088, dated February 10, 2000.

Issued in Fort Worth, Texas, on September 15, 2000.
Eric Bries,
Acting Manager, Rotorcraft Directorate, Aircraft Certification Service.

[FR Doc. 00-24372 Filed 9-21-00; 8:45 am]

BILLING CODE 4910-13-U